DEPARTMENT OF COMMERCE

Foreign-Trade Zones Board

[B-30-2021]

Foreign-Trade Zone (FTZ) 7—Mayaguez, Puerto Rico; Notification of Proposed Production Activity; MSD International GMBH (Puerto Rico Branch) LLC (Pharmaceuticals) Las Piedras, Puerto Rico

MSD International GMBH (Puerto Rico Branch) LLC (MSD) submitted a notification of proposed production activity to the FTZ Board for its facility in Las Piedras, Puerto Rico. The notification conforming to the requirements of the regulations of the FTZ Board (15 CFR 400.22) was received on April 16, 2021.

MSD already has authority to produce certain pharmaceutical products within Subzone 7G. The current request would add a finished product and a foreign-status material to the scope of authority. Pursuant to 15 CFR 400.14(b), additional FTZ authority would be limited to the specific foreign-status material and specific finished product described in the submitted notification (as described below) and subsequently authorized by the FTZ Board.

Production under FTZ procedures could exempt MSD from customs duty payments on the foreign-status materials/components used in export production. On its domestic sales, for the foreign-status materials/components noted below and in the existing scope of authority, MSD would be able to choose the duty rates during customs entry procedures that applies to molnupiravir pharmaceutical tablets (duty-free). MSD would be able to avoid duty on foreign-status components which become scrap/waste. Customs duties also could possibly be deferred or reduced on foreign-status production equipment.

The material sourced from abroad is molnupiravir active pharmaceutical ingredient (duty rate 3.7%).

Public comment is invited from interested parties. Submissions shall be addressed to the Board's Executive Secretary and sent to: ftz@trade.gov. The closing period for their receipt is June 7, 2021.

A copy of the notification will be available for public inspection in the “Reading Room” section of the Board's website, which is accessible via www.trade.gov/ftz.

For further information, contact Christopher Wedderburn at Chris.Wedderburn@trade.gov.

Dated: April 21, 2021.
Andrew McGilvray,
Executive Secretary.

[FR Doc. 2021-08644 Filed 4-23-21; 8:45 am]

BILLING CODE 3510-DS-P